DEPARTMENT OF ENERGY

Federal Energy Regulatory Commission

[Docket No. CP06-413-000]

Columbia Gulf Transmission Company; Tennessee Gas Pipeline Company; Notice of Application

July 7, 2006.

Take notice that on July 3, 2006, Columbia Gulf Transmission Co. (Columbia Gulf) and Tennessee Gas Pipeline Company (Tennessee) filed with the Commission an application pursuant to sections 7(b) and 7(c) of the Natural Gas Act (NGA) requesting that the Commission issue an order authorizing (i) the abandonment of capacity entitlements held by Dynegy Marketing and Trade (“DMT”) in the South Pass 77 System extending from South Pass Block 77 offshore Louisiana to Tennessee's system in Plaquemines Parish, Louisiana (South Pass 77 System), as derived from the ownership interests of Columbia Gulf; and (ii) the assignment of said capacity entitlements to Tennessee, all as more fully set forth in the application which is on file with the Commission and open to public inspection. The filing may also be viewed on the web at http://www.ferc.gov using the “eLibrary” link. Enter the docket number excluding the last three digits in the docket number field to access the document. For assistance, contact FERC at FERCOnlineSupport@gerc.gov or call toll-free, (886) 208-3676 or TYY, (202) 502-8659.

Any questions concerning this application may be directed to Sarah Dietrich, Senior Attorney, NiSource Corp. Services Company, 2603 Augusta, Suite 300, Houston, TX 77057, call (713) 267-4751, fax (713) 267-4755 or Kevin Erwin, Tennessee Gas Pipeline Company, 1001 Louisiana, Houston, TX 77001, call (713) 420-1212, fax (713) 420-1601.

There are two ways to become involved in the Commission's review of this project. First, any person wishing to obtain legal status by becoming a party to the proceedings for this project should, on or before the comment date stated below file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made in the proceeding with the Commission and must mail a copy to the applicant and to every other party. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Protests and interventions may be filed electronically via the Internet in lieu of paper; see, 18 CFR 385.2001(a)(1)(iii) and the instructions on the Commission's web site under the “e-Filing” link. The Commission strongly encourages electronic filings.

Comment Date: 5 p.m. Eastern Time on July 14, 2006.

Magalie R. Salas,
Secretary.

[FR Doc. E6-11178 Filed 7-13-06; 8:45 am]

BILLING CODE 6717-01-P